DEPARTMENT OF THE TREASURY

United States Mint

Notification of 2008 American Eagle Platinum Uncirculated Coin Pricing

Summary: The United States Mint is setting prices for its 2008 American Eagle Platinum Uncirculated Coins.

Pursuant to the authority that 31 U.S.C. 5111(a) and 5112(k) grant the Secretary of the Treasury to mint and issue platinum coins, and to prepare and distribute numismatic items, the United States Mint mints and issues 2008 American Eagle Platinum Uncirculated Coins in four denominations with the following weights: one ounce, one-half ounce, one-quarter ounce, one-tenth ounce. The United States Mint also produces American Eagle Platinum Uncirculated four-coin sets that contain one coin of each denomination. In accordance with 31 U.S.C. 9701(b)(2)(B), the United States Mint is setting the price of these coins to reflect recent increases in the market price of platinum.

The United States Mint will make available the following 2008 American Eagle Uncirculated Platinum Coins according to the following price schedule:

Description | Price
American Eagle Platinum Uncirculated Coins:
One ounce platinum coin | $2,349.95
One-half ounce platinum coin | 1,199.95
One-quarter ounce platinum coin | 619.95
One-tenth ounce platinum coin | 259.95
Four-coin platinum set | 4,289.95

For Futher Information Contact: Gloria C. Eskridge, Associate Director for Sales and Marketing, United States Mint, 801 Ninth Street, NW., Washington, DC 20220; or call 202-354-7500.

Authority: 31 U.S.C. 5111, 5112 & 9701.

Dated: July 14, 2008.
Edmund C. Moy,
Director, United States Mint.

[FR Doc. E8-16527 Filed 7-18-08; 8:45 am]

BILLING CODE 4810-02-P